FEDERAL COMMUNICATIONS COMMISSION

47 CFR Part 73

[DA 05-1777; MB Docket No. 04-124, RM-10936, RM-10937, RM-10938, RM-10939]

Radio Broadcasting Services; Dallas, Oregon

AGENCY: Federal Communications Commission.

ACTION: Final Rule.

SUMMARY: The Audio Division, on its own motion, grants Petitions for Rule Making filed separately by Northwest Community Radio Project, Dallas, Oregon Seventh-day Adventist Church, Radio Bilingue, Inc. and Lifetime Ministries, Inc. proposing the reservation of vacant Channel 252C3 at Dallas, Oregon for noncommercial educational. See 69 FR 26353, May 12, 2004. A staff engineering analysis determines that Channel *252C3 can be allotted at Dallas Oregon in compliance with the commission's minimum distance spacing requirements at reference coordinates 44-55-06 NL and 123-19-00 WL.

DATES: Effective August 11, 2005.

ADDRESSES: Federal Communications Commission, 445 Twelfth Street, SW., Washington, DC 20054.

FOR FURTHER INFORMATION CONTACT: Rolanda F. Smith, Media Bureau, (202) 418-2180.

SUPPLEMENTARY INFORMATION: This is a synopsis of the commission's Report and Order, MB Docket No. 04-124, adopted June 23, 2005, and released June 27, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Memorandum Opinion and Order in a report to be sent to Congress and the Government Accountability Office pursuant to the Congressional Review Act, see 5 U.S.C. 801(a)(1)(A).

List of Subjects in 47 CFR Part 73 Radio, Radio broadcasting.

Part 73 of Title 47 of the CFR is amended as follows:

PART 73—RADIO BROADCAST SERVICES

1. The authority citation for part 73 continues to read as follows:

Authority: 47 U.S.C. 154, 303, 334 and 336.

§ 73.202 [Amended]

2. Section 73.202(b), the Table of FM Allotments under Oregon, is amended by removing Channel 252C3 and by adding Channel *252C3 at Dallas.

Federal Communications Commission.
John A. Karousos,
Assistant Chief, Audio Division, Media Bureau.

[FR Doc. 05-13569 Filed 6-12-05; 8:45 am]

BILLING CODE 6712-01-M